DEPARTMENT OF AGRICULTURE

Animal and Plant Health Inspection Service

[Docket No. APHIS-2018-0061]

Changes to the National Poultry Improvement Plan Program Standards

AGENCY: Animal and Plant Health Inspection Service, USDA.

ACTION: Notice of determination.

SUMMARY: We are updating the National Poultry Improvement Plan (NPIP) Program Standards. In a previous notice, we made available to the public for review and comment proposed changes to the NPIP Program Standards. These changes will be added to the NPIP Program Standards.

DATES: Applicable December 10, 2019.

FOR FURTHER INFORMATION CONTACT: Dr. Elena Behnke, DVM, Senior Coordinator, National Poultry Improvement Plan, VS, APHIS, USDA, 1506 Klondike Road, Suite 101, Conyers, GA 30094-5104; (770) 922-3496; email: elena.behnke@usda.gov.

SUPPLEMENTARY INFORMATION: The National Poultry Improvement Plan (NPIP), also referred to below as “the Plan,” is a cooperative Federal-State-Industry mechanism for controlling certain poultry diseases. The Plan consists of a variety of programs intended to prevent and control poultry diseases. Participation in all Plan programs is voluntary, but breeding flocks, hatcheries, and dealers must first qualify as “U.S. Pullorum-Typhoid Clean” as a condition for participating in the other Plan programs.

The regulations in 9 CFR parts 56, 145, 146, and 147 (referred to below as the regulations) contain the provisions of the Plan. The Animal and Plant Health Inspection Service (APHIS) of the U.S. Department of Agriculture (USDA) amends these provisions from time to time to incorporate new scientific information and technologies within the Plan.

Because changes in diagnostic science, testing technology, and best practices for maintaining sanitation are continual, and the rulemaking process can be lengthy, certain provisions of the Plan are contained in an NPIP Program Standards document ¹ rather than in the regulations. The NPIP Program Standards may be updated or revised via a notice-based process rather than by rulemaking.

¹ This document may be viewed on the NPIP website at http://www.poultryimprovement.org/documents/ProgramStandardsAugust2014.pdf, or by writing to the Service at National Poultry Improvement Plan, APHIS, USDA, 1506 Klondike Road, Suite 101, Conyers, GA 30094.

On April 11, 2019, we published a notice ² in the Federal Register (84 FR 14642-14643, Docket No. APHIS-2018-0061) advising the public that we had prepared updates to the NPIP Program Standards. We proposed updating the standards by:

² To view the notice and comments we received, go to http://www.regulations.gov/#!docketDetail;D=APHIS-2018-0061.

• Adding and amending definitions of H5/H7 low pathogenicity avian influenza (LPAI) (exposed) and H5/H7 LPAI (infected);

• Clarifying and amending the testing protocol for Mycoplasma by allowing use of molecular-based examination procedures;

• Removing specific agar gel immunodiffusion Avian Influenza testing procedures with directions to use the current National Veterinary Services Laboratories protocol;

• Amending and clarifying salmonella isolation procedures;

• Updating and clarifying bacteriological examination procedures for cull chicks and poults for salmonella;

• Adding a new salmonella diagnostic test kit;

• Removing outdated testing procedures for the sanitation monitored program;

• Updating and clarifying hatching egg and hatchery sanitation requirements, flock sanitation procedures, and cleaning and disinfection procedures;

• Adding new dealer sanitation requirements;

• Updating and clarifying compartmentalization language as well as amending and clarifying audit guidelines and checklists; and

• Adding Newcastle disease virus compartmentalization physical requirements for an egg depot receiving/shipping dock.

We solicited comments for 30 days ending on May 13, 2019. We received three comments by that date. One commenter, who submitted two of the comments, expressed her dissatisfaction with the practices of the poultry industry and USDA's oversight, but did not offer any comments on the proposed updates to the standards. The other commenter suggested that the NPIP would be more successful if each State had to meet the same requirements. The commenter further indicated that the program needed better funding, which would reduce costs for participants and would increase participation.

The NPIP program is a voluntary program, and the regulations governing the program are voted on by the members that participate in the program. All States must meet the provisions in the regulations, however, States have the ability to implement regulations that may go above and beyond provisions. Currently, 100 percent of the primary breeding industry participates in the NPIP as does 95 percent of the commercial poultry industry, so we do not believe that differences in State requirements or the current funding of the program presents a hindrance to participation in the Plan.

Therefore, we are updating the NPIP Program Standards as described in our previous notice and in this document.

Paperwork Reduction Act

In accordance with section 3507(d) of the Paperwork Reduction Act of 1995 (44 U.S.C. 3501 et seq.), the information collection activities included in this notice will be approved by the Office of Management and Budget under control number 0579-0007.

E-Government Act Compliance

The Animal and Plant Health Inspection Service is committed to compliance with the E-Government Act to promote the use of the internet and other information technologies, to provide increased opportunities for citizen access to Government information and services, and for other purposes. For information pertinent to E-Government Act compliance related to this notice, please contact Mr. Joseph Moxey, APHIS' Information Collection Coordinator, at (301) 851-2483.

Congressional Review Act

Pursuant to the Congressional Review Act (5 U.S.C. 801 et seq.), the Office of Information and Regulatory Affairs designated this action as not a major rule, as defined by 5 U.S.C. 804(2).

Authority: 7 U.S.C. 8301-8317; 7 CFR 2.22, 2.80, and 371.4.

Done in Washington, DC, this 7th day of October 2019.
Kevin Shea,
Administrator, Animal and Plant Health Inspection Service.

[FR Doc. 2019-22299 Filed 10-10-19; 8:45 am]

BILLING CODE 3410-34-P